DEPARTMENT OF HEALTH AND HUMAN SERVICES

Administration for Community Living

[CFDA Number: 84.133B-3]

Proposed priority—National Institute on Disability, Independent Living, and Rehabilitation Research—Rehabilitation Research and Training Centers

AGENCY: Administration for Community Living, Department of Health and Human Services.

ACTION: Notice of proposed priority.

SUMMARY: The Administrator of the Administration for Community Living proposes a priority for the Rehabilitation Research and Training Center (RRTC) Program administered by the National Institute on Disability, Independent Living, and Rehabilitation Research (NIDILRR). Specifically, this notice proposes a priority for an RRTC on Employment Policy and Measurement. We take this action to focus research attention on an area of national need. We intend this priority to contribute to improved employment outcomes for individuals with disabilities.

DATES: We must receive your comments on or before March 27, 2015.

ADDRESSES: Submit your comments through the Federal eRulemaking Portal or via postal mail or commercial delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail or Commercial Delivery: If you mail or deliver your comments about these proposed regulations, address them to Patricia Barrett, U.S. Department of Health and Human Services, 400 Maryland Avenue SW., Room 5142, Potomac Center Plaza (PCP), Washington, DC 20202-2700.

Privacy Note: The Department's policy is to make all comments received from members of the public available for public viewing in their entirety on the Federal eRulemaking Portal at www.regulations.gov. Therefore, commenters should be careful to include in their comments only information that they wish to make publicly available.

FOR FURTHER INFORMATION CONTACT: Patricia Barrett. Telephone: (202) 245-6211 or by email: patricia.barrett@ed.gov.

If you use a telecommunications device for the deaf (TDD) or a text telephone (TTY), call the Federal Relay Service (FRS), toll free, at 1-800-877-8339.

SUPPLEMENTARY INFORMATION: This notice of proposed priority is in concert with NIDRR's currently approved Long-Range Plan (Plan). The Plan, which was published in the Federal Register on April 4, 2013 (78 FR 20299), can be accessed on the Internet at the following site: www.ed.gov/about/offices/list/osers/nidrr/policy.html.

The Plan identifies a need for research and training regarding employment of individuals with disabilities. To address this need, NIDILRR seeks to: (1) Improve the quality and utility of disability and rehabilitation research; (2) foster an exchange of research findings, expertise, and other information to advance knowledge and understanding of the needs of individuals with disabilities and their family members, including those from among traditionally underserved populations; (3) determine effective practices, programs, and policies to improve community living and participation, employment, and health and function outcomes for individuals with disabilities; (4) identify research gaps and areas for promising research investments; (5) identify and promote effective mechanisms for integrating research and practice; and (6) disseminate research findings to all major stakeholder groups, including individuals with disabilities and their family members in formats that are appropriate and meaningful to them.

This notice proposes one priority that NIDILRR intends to use for one or more competitions in fiscal year (FY) 2015 and possibly later years. NIDILRR is under no obligation to make an award under this priority. The decision to make an award will be based on the quality of applications received and available funding. NIDILRR may publish additional priorities, as needed.

Invitation to Comment: We invite you to submit comments regarding this proposed priority. To ensure that your comments have maximum effect in developing the final priority, we urge you to identify clearly the specific topic within the priority that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments by following the instructions found under the “Are you new to the site?” portion of the Federal eRulemaking Portal at wwww.regulations.gov. Any comments sent to NIDILRR via postal mail or commercial delivery can be viewed in Room 5142, 550 12th Street SW., PCP, Washington, DC, between the hours of 8:30 a.m. and 4:00 p.m., Washington, DC time, Monday through Friday of each week except Federal holidays.

Assistance to Individuals With Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers

The purpose of the RRTCs, which are funded through the Disability and Rehabilitation Research Projects and Centers Program, is to achieve the goals of, and improve the effectiveness of, services authorized under the Rehabilitation Act through well-designed research, training, technical assistance, and dissemination activities in important topical areas as specified by NIDILRR. These activities are designed to benefit rehabilitation service providers, individuals with disabilities, family members, policymakers and other research stakeholders. Additional information on the RRTC program can be found at: http://www2.ed.gov/programs/rrtc/index.html#types.

Program Authority: 29 U.S.C. 762(g) and 764(b)(2).

Applicable Program Regulations: 34 CFR part 350.

Proposed Priority

This notice contains one proposed priority.

RRTC on Employment Policy and Measurement

Background

Since the 2007 recession, Social Security Disability Insurance (SSDI) applications and awards have increased rapidly. There are nearly 9 million beneficiaries currently receiving SSDI payments, and this figure is expected to grow as workers age and increase their likelihood of experiencing disability. With this growth in program participation, actuaries estimate that the SSDI trust fund will be depleted in late 2016 unless substantial changes occur (Social Security Administration, 2014). Given this scenario, developing informed employment policy options is essential. These options require sound research to inform policymakers regarding the projected impacts of policies that encourage employment among individuals with disabilities while ensuring an adequate safety net. Research is also needed to evaluate the long-term impacts of policies and programs that aim to facilitate employment and improve the quality of life among people with disabilities.

The interactions between Social Security disability programs and public health insurance programs have long been considered a substantial barrier to employment for people with disabilities (Loprest & Maag, 2001; National Council on Disability, 2007). The 2010 enactment of the Patient Protection and Affordable Care Act (ACA) provided improved access to public and private insurance for all Americans including those with disabilities. For example, the ACA prevents health care coverage denials due to pre-existing conditions, increases coverage requirements, and provides mental health parity for persons with psychiatric disabilities. The impact of the ACA on employment outcomes for people with disabilities is an important research area.

Prior RRTC-EPM work focused on examining and improving extant methods of measuring disability status, as well as measuring employment outcomes among people with disabilities. For example, the RRTC illustrated how self-reported disability status changes over time through an analysis of longitudinal data focusing on youth (Mann and Honeycutt, 2014). These analyses indicated that the proportion of respondents with a disability doubled from 12 percent to nearly 25 percent over the course of 13 years. Multivariate analyses showed that women were more likely than men to report changes in health condition or disability status, and those with mild disabilities were relatively less likely than those without or with severe disabilities to experience changes in disability status. The RRTC also studied extant surveys and found that commonly used measures overestimated employment and underestimated receipt of disability income assistance such as SSDI (Burkhauser, Houtenville and Tenant, 2014). Other researchers have recently explored similar issues related to the reliability and stability of disability measures (Brault, 2013; Davies & Fisher, 2013; Sears & Rupp, 2003). Knowledge gained through this work has highlighted a need to develop improved methods of measuring both disability and employment in ways that generate more reliable and valid research findings. Continued innovation is thus needed to develop measures and metrics that accurately reflect the changing nature of disability across the life span as well as changes in the workforce over time. By doing so, research results may be more relevant for policy and program decisions aimed at improving employment outcomes for people with disabilities.

References

Brault, M. (2013). Reliability and stability of the 6-question disability measure in the Survey of Income and Program Participation. Retrieved December 31, 2014, from: http://www.census.gov/people/disability/files/sipp_reliability-jsm2013.pdf.

Burkhauser, R., Houtenville, A., and Tennant, J. (2014). Capturing the elusive working-age population with disabilities: Reconciling conflicting social success estimates from the Current Population Survey and American Community Survey. Journal of Disability Policy Studies, 24(4) 195-205.

Davies, P., and Fisher, T.L. (2013). Measurement issues associated with using survey data matched with administrative data from the Social Security Administration. Retrieved January 19, 2015, from: http://www.ssa.gov/policy/docs/ssb/v69n2/v69n2p1.html.

Loprest, P., and Maag, E. (2001). Barriers to and Supports for Work Among Adults with Disabilities: Results from the NHIS-D. Retrieved on December 31, 2014, from: http://aspe.hhs.gov/daltcp/reports/barriers.htm.

Mann, D. and Honeycutt, T. (2014). Changes in disability status and survey attrition: A longitudinal analysis. Retrieved January 9, 2015, from: http://www.researchondisability.org/docs/publications/statsrrtc-r3-longitudinal-study-final-report-12-19-14.pdf?sfvrsn=2.

National Council on Disability (2007). Empowerment for Americans with disabilities: Breaking barriers to careers and full employment. Retrieved January 19, 2015, from: http://www.ncd.gov/publications/2007/Oct2007.

Patient Protection and Affordable Care Act, Public Law 111—148 (2010). Retrieved December 31, 2014, from: http://www.gpo.gov/fdsys/pkg/PLAW-111publ148/content-detail.html.

Sears, J., Rupp, K. (2003). Exploring Social Security payment history matched with the Survey of Income and Program Participation. Retrieved December 31, 2014, from: http://www.oecd.org/std/36232603.pdf.

Social Security Administration (2014). The 2014 Annual Report of the Board of Trustees of the Federal Old-Age and Survivors Insurance and Federal Disability Insurance Trust Funds. Retrieved December 31, 2014, from: http://www.ssa.gov/oact/tr/2014/index.html.

Definitions

The research that is proposed under this priority must be focused on one or more stages of research. If the RRTC is to conduct research that can be categorized under more than one research stage, or research that progresses from one stage to another, those research stages must be clearly specified. For purposes of this priority, the stages of research are from the notice of final priorities and definitions published in the Federal Register on June 7, 2013 (78 FR 34261).

(a) Exploration and Discovery means the stage of research that generates hypotheses or theories by conducting new and refined analyses of data, producing observational findings, and creating other sources of research-based information. This research stage may include identifying or describing the barriers to and facilitators of improved outcomes of individuals with disabilities, as well as identifying or describing existing practices, programs, or policies that are associated with important aspects of the lives of individuals with disabilities. Results achieved under this stage of research may inform the development of interventions or lead to evaluations of interventions or policies. The results of the exploration and discovery stage of research may also be used to inform decisions or priorities.

(b) Intervention Development means the stage of research that focuses on generating and testing interventions that have the potential to improve outcomes for individuals with disabilities. Intervention development involves determining the active components of possible interventions, developing measures that would be required to illustrate outcomes, specifying target populations, conducting field tests, and assessing the feasibility of conducting a well-designed interventions study. Results from this stage of research may be used to inform the design of a study to test the efficacy of an intervention.

(c) Intervention Efficacy means the stage of research during which a project evaluates and tests whether an intervention is feasible, practical, and has the potential to yield positive outcomes for individuals with disabilities. Efficacy research may assess the strength of the relationships between an intervention and outcomes, and may identify factors or individual characteristics that affect the relationship between the intervention and outcomes. Efficacy research can inform decisions about whether there is sufficient evidence to support “scaling-up” an intervention to other sites and contexts. This stage of research can include assessing the training needed for wide-scale implementation of the intervention, and approaches to evaluation of the intervention in real world applications.

(d) Scale-Up Evaluation means the stage of research during which a project analyzes whether an intervention is effective in producing improved outcomes for individuals with disabilities when implemented in a real-world setting. During this stage of research, a project tests the outcomes of an evidence-based intervention in different settings. It examines the challenges to successful replication of the intervention, and the circumstances and activities that contribute to successful adoption of the intervention in real-world settings. This stage of research may also include well-designed studies of an intervention that has been widely adopted in practice, but that lacks a sufficient evidence-base to demonstrate its effectiveness.

Proposed Priority

The Administrator of the Administration for Community Living proposes a priority for an RRTC on Employment Policy and Measurement. The purpose of the proposed RRTC on Employment Policy and Measurement RRTC (RRTC-EPM) is to investigate the impact of Federal and State policies and programs on employment of individuals with disabilities, paying particular attention to the effects of program interactions. The RRTC-EPM will also examine new ways of measuring employment outcomes and facilitate the translation of research findings to guide policymaking and program administration. Applicants must identify targeted research questions in response to the problems identified below and propose rigorous research methodologies to answer these questions. Of particular interest is research that investigates the interaction between the Affordable Care Act (ACA), Social Security Disability Insurance (SSDI), and employment. The desired outcome of this investment is new knowledge about the effect of new or existing policies on employment-related decision-making of individuals with disabilities, and ultimately on rates and quality of employment by these individuals.

The RRTC must contribute to improving the employment outcomes of individuals with disabilities by:

(a) Generating new knowledge about the effects of program interactions on employment outcomes of individuals with disabilities, including but not necessarily limited to the interaction between Social Security disability benefit programs and the ACA. Specifically, the RRTC must generate new knowledge of the potential impacts of varied policy scenarios regarding the SSDI trust fund exhaustion on the employment and economic outcomes of individuals with disabilities.

(b) Developing reliable and valid methods of measuring employment outcomes for people with disabilities;

(c) Serving as a national resource center on policy issues that impact employment outcomes of individuals with disabilities, and

(d) Increasing incorporation of research findings from the RRTC into practice or policy by:

(1) Collaborating with stakeholder groups to develop, evaluate, or implement strategies to increase utilization of research findings;

(2) Conducting training and dissemination activities to facilitate the utilization of research findings by policymakers, employers, and individuals with disabilities;

(3) Providing technical assistance to facilitate use of information produced by the RRTC research; and

(4) Collaborating and sharing information with other agencies across the Federal government. In addition, the RRTC must collaborate with appropriate NIDILRR-funded grantees, including knowledge translation grantees and grantees involved with employment research.

Final Priority

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register or in a Funding Opportunity Announcement posted at www.grants.gov.

Executive Orders 12866 and 13563

Regulatory Impact Analysis

Under Executive Order 12866, the Secretary must determine whether this regulatory action is “significant” and, therefore, subject to the requirements of the Executive Order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive Order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only upon a reasoned determination that its benefits would justify its costs. In choosing among alternative regulatory approaches, we selected those approaches that would maximize net benefits. Based on the analysis that follows, the Department believes that this proposed priority is consistent with the principles in Executive Order 13563.

We also have determined that this regulatory action would not unduly interfere with State, local, and tribal governments in the exercise of their governmental functions.

In accordance with both Executive Orders, the Department has assessed the potential costs and benefits, both quantitative and qualitative, of this regulatory action. The potential costs are those resulting from statutory requirements and those we have determined as necessary for administering the Department's programs and activities.

The benefits of the Disability and Rehabilitation Research Projects and Centers Program have been well established over the years. Projects similar to one envisioned by the proposed priority have been completed successfully, and the proposed priority would generate new knowledge through research. The new RRTC would generate, disseminate, and promote the use of new information that would improve outcomes for individuals with disabilities in the area of employment.

Intergovernmental Review: This program is not subject to Executive Order 12372.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: February 19, 2015.
Kathy Greenlee,
Administrator.

[FR Doc. 2015-03882 Filed 2-24-15; 8:45 am]

BILLING CODE 4154-01-P